DEPARTMENT OF COMMERCE

Office of Civil Rights; Proposed Information Collection; Comment Request; Request for Reasonable Accommodation

AGENCY: Office of the Secretary, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 21, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Jennifer Croft, 202-482-8187, or jcroft@doc.gov.

SUPPLEMENTARY INFORMATION:

I. Abstract

Under the Rehabilitation Act of 1973, Federal agencies must provide reasonable accommodation to qualified applicants with disabilities, unless to do so would cause undue hardship.

Executive Order 13164 requires Federal agencies to provide written procedures for reasonable accommodation for applicants. In order to evaluate and ensure that the process and requests for reasonable accommodation are done in a fair, timely, and equitable manner, applicants are required to verify their request in writing by using a form (CD-575). The form is also used for internal data tracking regarding the number and types of reasonable accommodations requested and granted (or denied). This information is required by the Equal Employment Opportunities Commission to be compiled and analyzed on an annual basis.

II. Method of Collection

The information will be collected in paper or electronic format.

III. Data

OMB Number: 0690-0022.

Form Number: CD 575.

Type of Review: Regular submission.

Affected Public: Individuals or households.

Estimated Number of Respondents: 10.

Estimated Time per Response: 30 minutes.

Estimated Total Annual Burden Hours: 5 hours.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 16, 2006.
Gwellnar Banks,
Management Analyst, Office of the Chief Information Officer.

[FR Doc. E6-9838 Filed 6-21-06; 8:45 am]

BILLING CODE 3510-BP-P